DEPARTMENT OF COMMERCE

National Oceanic and Atmospheric Administration

RIN 0648-XF025

Notice of Availability of a Draft Environmental Assessment for the Bluefield Holdings, Inc. Site 2 Shoreline Restoration Project Credit Purchase

AGENCY: National Marine Fisheries Service (NMFS); National Oceanic and Atmospheric Administration (NOAA), Commerce.

ACTION: Notice of availability of a Draft Environmental Assessment; request for comments.

SUMMARY: Notice is hereby given that a document entitled, “Draft Environmental Assessment for the Bluefield Holdings, Inc. Site 2 Shoreline Restoration Project Credits Purchase” (Draft EA) is available for public review and comment. This document has been prepared by the state, tribal, and Federal natural resource trustee agencies (the “Trustees”)—NOAA, United States Fish & Wildlife Service (USFWS) acting on behalf of the U.S. Department of the Interior (DOI), Washington Department of Ecology (as lead State trustee), Washington Department of Fish and Wildlife, Muckleshoot Indian Tribe, and the Suquamish Tribe—to evaluate potential impacts to the environment from purchasing 30 credits in the Bluefield Holdings, Inc. Site 2 Shoreline Restoration Project (Site 2). The proposed credits purchase in the Site 2 project is a component of the overall effort to restore natural resources and resource services that have been injured and lost resulting from releases of hazardous substances into the Lower Duwamish River (LDR). This draft EA is tiered from the June 2013 Final LDR NRDA Restoration Plan and Programmatic Environmental Impact Statement (RP/EIS). The EA describes the Trustees' proposed plan to purchase 30 credits in the Site 2 project. The purchase would utilize a portion of the funds provided to the Trustees from the Pacific Sound Resources settlement (United States et al. v. Pacific Sound Resources et al., Civ. No. C94-687 (W.D. Wash. Aug. 29, 1994)). The Trustees may only use these funds for restoration purposes. The Trustees will consider comments received during the public comment period before finalizing this EA.

DATES: Comments on the Draft EA must be submitted in writing on or before December 27, 2016.

ADDRESSES: Requests for copies of the Draft EA should be sent to Rebecca Hoff of NOAA at 7600 Sand Point Way NE., DARC Building 1, Seattle, WA 98115 or by email: Rebecca.Hoff@noaa.gov. The Draft EA is also available for downloading at http://bit.ly/2fJlE8G. Comments on this plan are to be sent in writing to Rebecca Hoff of NOAA. These written comments may be submitted either by mail at the address provided above; by fax to 206-526-6665, or by email to Rebecca.Hoff@noaa.gov.

FOR FURTHER INFORMATION CONTACT: Rebecca Hoff, at 206-526-6276, or email: Rebecca.Hoff@noaa.gov.

SUPPLEMENTARY INFORMATION: The LDR is the estuarine portion of the Duwamish River, and starts from the mouth at the East and West Waterways on both sides of Harbor Island at Seattle's Elliott Bay and ends at the natural rock formation commonly known as North Winds Weir (approximately 7 miles), in central Puget Sound. Historic operations of various entities resulted in releases of hazardous substances, such as polynuclear aromatic hydrocarbons (PAHs), polychlorinated biphenyls (PCBs), heavy metals, and other hazardous compounds, into the LDR.

The RP/PEIS describes the type of restoration that the Trustees believe would be most effective in addressing the injuries in the LDR resulting from releases of hazardous substances—Integrated Habitat Restoration. The Site 2 project will create the full suite of habitats identified in the Integrated Habitat Restoration approach, and is consistent with the description of projects and project impacts discussed in the RP/PEIS. The Draft EA released today identifies the Trustees' proposed use of some of the settlement funds to purchase restoration credits sufficient to allow Bluefield Holdings to begin implementing the Site 2 project. The Site 2 project will create and/or rehabilitate shallow subtidal habitat, intertidal mudflat habitat, marsh habitat, and riparian habitat.

In undertaking this NRDA restoration effort and in releasing this Draft EA, the Trustees are acting in accordance with their designation and authorities under section 107(f) of the Comprehensive Environmental Response, Compensation, and Liability Act (CERCLA), 42 U.S.C. 9607(f) of the Federal Water Pollution and Control Act (FWPCA), 33 U.S.C. 1321, Subpart G of the National Oil and Hazardous Substances Pollution Contingency Plan (NCP), 40 CFR 300.600 through 300.615, and regulations at 43 CFR part 11, which are applicable to natural resource damage assessments under CERCLA. The Trustees act on behalf of the public under these authorities to protect and restore natural resources injured or lost resulting from discharges or releases of hazardous substances.

Dated: November 22, 2016.
Patricia A. Montanio,
Director, Office of Habitat Conservation, National Marine Fisheries Service.

[FR Doc. 2016-28617 Filed 11-28-16; 8:45 am]

BILLING CODE 3510-22-P